NUCLEAR REGULATORY COMMISSION

[NRC-2018-0287; NRC-2019-0020]

Biweekly Notice; Applications and Amendments to Facility Operating Licenses and Combined Licenses Involving No Significant Hazards Considerations

AGENCY: Nuclear Regulatory Commission.

ACTION: Biweekly notice; extension of comment period.

SUMMARY: Pursuant to the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from December 15, 2018, to December 28, 2018. The last biweekly notice was published on January 2, 2019 (84 FR 20). The comment period for the document published in the Federal Register on January 2, 2019 (84 FR 20), was originally scheduled to close on February 1, 2019. Because this document was posted to Regulations.gov on January 18, 2019, the NRC has decided to extend the public comment period to allow more time for stakeholders to develop and submit their comments. Due to the Federal government shutdown, there was no biweekly publication on January 15, 2019.

DATES: Comments must be filed by March 4, 2019. A request for a hearing must be filed by April 1, 2019. The due date for comments requested in the document published on January 2, 2019 (84 FR 20) is extended. Comments should be filed no later than March 4, 2019. Comments received after this date will be considered, if it is practical to do so, but the Commission is able to ensure consideration only for comments received on or before this date.

ADDRESSES: You may submit comments by any of the following methods:

• Federal Rulemaking website: Go to http://www.regulations.gov and search for Docket ID NRC-2019-0020. Address questions about Docket IDs in Regulations.gov to Krupskaya Castellon; telephone: 301-287-9221; email: Krupskaya.Castellon@nrc.gov. For technical questions, contact the individual(s) listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Shirley Rohrer, Office of Nuclear Reactor Regulation, U.S. Nuclear Regulatory Commission, Washington DC 20555-0001; telephone: 301-415-5411, Shirley.Rohrer@nrc.gov.

SUPPLEMENTARY INFORMATION:

I. Obtaining Information and Submitting Comments

A. Obtaining Information

Please refer to Docket ID NRC-2019-0020, facility name, unit number(s), plant docket number, application date, and subject when contacting the NRC about the availability of information for this action. You may obtain publicly-available information related to this action by any of the following methods:

• Federal Rulemaking website: Go to http://www.regulations.gov and search for Docket ID NRC-2019-0020.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2019-0020, facility name, unit number(s), plant docket number, application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

Pursuant to Section 189a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

III. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at http://www.nrc.gov/site-help/e-submittals/getting-started.html. Once a participant has obtained a digital ID certificate and a docket has been created, the participant can then submit adjudicatory documents. Submissions must be in Portable Document Format (PDF). Additional guidance on PDF submissions is available on the NRC's public website at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Duke Energy Carolinas, LLC, Docket Nos. 50-269, 50-270, and 50-287, Oconee Nuclear Station, Units 1, 2, and 3, Oconee County, South Carolina

Date of amendment request: November 1, 2018. A publicly-available version is in ADAMS under Accession No. ML18318A320.

Description of amendment request: The amendments would revise the dose consequences for the facility, as described in the Updated Final Safety Analysis Report, to provide fission gas gap release fractions for high-burnup fuel rods that exceed the linear heat generation rate limit detailed in Regulatory Guide (RG) 1.183, “Alternative Radiological Source Terms for Evaluating Design Basis Accidents at Nuclear Power Reactors” (ADAMS Accession No. ML003716792), Table 3, Footnote 11. The amendments would allow a higher bounding rod power history and the removal of a restriction on the number of rods per assembly that can exceed the rod power burnup criteria of Footnote 11 in RG 1.183.

Basis for proposed no significant hazards consideration determination: As required by 10 CFR 50.91(a), the licensee has provided its analysis of the issue of no significant hazards consideration, which is presented below:

1. Does the proposed change involve a significant increase in the probability or consequences of an accident previously evaluated?

The proposed change involves using gap release fractions for high-burnup fuel rods (i.e., greater than 54 GWD/MTU [gigawatt days per metric ton of uranium]) that exceed the 6.3 kW/ft [kilowatt per foot] linear heat generation rate (LHGR) limit detailed in Table 3, Footnote 11 of RG 1.183. Increased gap release fractions were determined and accounted for in the dose analysis for ONS [Oconee Nuclear Station]. The dose consequences reported in the ONS Updated Final Safety Analysis Report (UFSAR) were reanalyzed for fuel handling accidents only. Dose consequences were not reanalyzed for other non-fuel-handling accidents since no fuel rod that is predicted to enter departure from nucleate boiling (DNB) will be permitted to operate beyond the limits of RG 1.183, Table 3, Footnote 11. The current NRC requirements, as described in 10 CFR 50.67, specifies [sic] dose acceptance criteria in terms of Total Effective Dose Equivalent (TEDE). The revised dose consequence analyses for the fuel handling events at ONS meet the applicable TEDE dose acceptance criteria (specified also in RG 1.183).

The changes proposed do not affect the precursors for fuel handling accidents analyzed in Chapter 15 of the ONS UFSAR. The probability remains unchanged since the accident analyses performed and discussed in the basis for the UFSAR changes involve no change to a system, structure or component that affects initiating events for any UFSAR Chapter 15 accident evaluated.

Therefore, the proposed change does not involve a significant increase in the probability or consequences of an accident previously evaluated.

2. Does the proposed change create the possibility of a new or different kind of accident from any previously evaluated?

The proposed change involves using gap release fractions for high-burnup fuel rods (i.e., greater than 54 GWD/MTU) that exceed the 6.3 kW/ft LHGR limit detailed in Table 3, Footnote 11 of RG 1.183. Increased gap release fractions were determined for certain isotopes, and were accounted for in the dose analysis for ONS. The dose consequences reported in the ONS UFSAR were reanalyzed for fuel handling accidents only. Dose consequences were not reanalyzed for other non-fuel-handling accidents since no fuel rod that is predicted to enter departure from nucleate boiling (DNB) will be permitted to operate beyond the limits of RG 1.183, Table 3, Footnote 11.

The proposed change does not involve the addition or modification of any plant equipment. The proposed change has the potential to affect future core designs for ONS. However, the impact will not be beyond the standard function capabilities of the equipment. The proposed change involves using gap release fractions that would allow high-burnup fuel rods (i.e., greater than 54 GWD/MTU) to exceed the 6.3 kW/ft LHGR limit detailed in Table 3, Footnote 11 of RG 1.183. Accounting for these new gap release fractions in the dose analysis for ONS does not create the possibility of a new accident.

Therefore, the proposed change does not create the possibility of a new or different kind of accident from any accident previously evaluated.

3. Does the proposed change involve a significant reduction in a margin of safety?

The proposed change involves using gap release fractions for high-burnup fuel rods (i.e., greater than 54 GWD/MTU) that exceed the 6.3 kW/ft LHGR limit detailed in Table 3, Footnote 11 of RG 1.183. Increased gap release fractions were determined for certain isotopes, and were accounted for in the dose analysis for ONS. The dose consequences reported in the ONS UFSAR were reanalyzed for fuel handling accidents only. Dose consequences were not reanalyzed for other non-fuel-handling accidents since no fuel rod that is predicted to enter departure from nucleate boiling (DNB) will be permitted to operate beyond the limits of RG 1.183, Table 3, Footnote 11.

The proposed change has the potential for an increased postulated accident dose at ONS. However, the analysis demonstrates that the resultant doses are within the appropriate acceptance criteria. The margin of safety, as defined by 10 CFR 50.67 and Regulatory Guide 1.183, has been maintained. Furthermore, the assumptions and input used in the gap release and dose consequences calculations are conservative. These conservative assumptions ensure that the radiation doses calculated pursuant to Regulatory Guide 1.183 and cited in this LAR are the upper bounds to radiological consequences of the fuel handling accidents analyzed. The analysis shows that with increased gap release fractions accounted for in the dose consequences calculations there is margin between the offsite radiation doses calculated and the dose limits of 10 CFR 50.67 and acceptance criteria of Regulatory Guide 1.183. The proposed change will not degrade the plant protective boundaries, will not cause a release of fission products to the public, and will not degrade the performance of any structures, systems or components important to safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Kate Nolan, Deputy General Counsel, Duke Energy Carolinas, 550 South Tryon Street, Charlotte, NC 28202.

NRC Branch Chief: Michael T. Markley.

Duke Energy Progress, LLC, Docket Nos. 50-325 and 50-324, Brunswick Steam Electric Plant, Units 1 and 2, Brunswick County, North Carolina

Date of amendment request: October 18, 2018. A publicly-available version is in ADAMS under Accession No. ML18291A628.

Description of amendment request: The proposed amendments would revise the allowable value associated with Function 1.b (i.e., 4.16 kiloVolt Emergency Bus Undervoltage (Loss of Voltage)—Time Delay) of Table 3.3.8.1-1, “Loss of Power Instrumentation,” in Technical Specification 3.3.8.1.

Basis for proposed no significant hazards consideration determination: As required by 10 CFR 50.91(a), the licensee has provided its analysis of the issue of no significant hazards consideration, which is presented below:

1. Does the proposed change involve a significant increase in the probability or consequences of an accident previously evaluated?

Response: No.

The proposed change does not involve a physical alteration of the plant (i.e., no new or different type of equipment will be installed). The proposed change revises the Allowable Value for the Time Delay Loss of Voltage relays to resolve a design vulnerability potentially impacting the Emergency Diesel Generator (EDG) output breaker logic; thereby ensuring reliability of the onsite AC electrical sources. Therefore, the proposed change does not adversely affect the ability of structures, systems and components (SSCs) to perform their intended safety function to mitigate the consequences of an initiating event within the assumed acceptance limits. Further, the proposed change does not increase the types and the amounts of radioactive effluent that may be released, nor significantly increase individual or cumulative occupation/public radiation exposures.

Therefore, the proposed amendments do not involve a significant increase in the probability or consequences of an accident previously evaluated.

2. Does the proposed change create the possibility of a new or different kind of accident from any accident previously evaluated?

Response: No.

The proposed change revises the Allowable Value for the Time Delay Loss of Voltage relays. It does not require any modification to the plant and it does not alter the design configuration, or method of operation of plant equipment beyond its normal functional capabilities. The proposed change will not introduce failure modes that could result in a new accident, and the change does not alter assumptions made in the safety analysis.

Therefore, the proposed amendments do not create the possibility of a new or different kind of accident from any accident previously evaluated.

3. Does the proposed change involve a significant reduction in a margin of safety?

Response: No.

The proposed change revises the Allowable Value for the Time Delay Loss of Voltage relays to resolve a design vulnerability potentially impacting the EDG output breaker logic; thereby ensuring reliability of the onsite AC electrical sources. It does not alter or exceed a design basis or safety limit. There is no change being made to safety analysis assumptions or the safety limits that would adversely affect plant safety as a result of the proposed change. Margins of safety are unaffected by the proposed change and the applicable requirements of 10 CFR 50.36(c)(3) and 10 CFR 50, Appendix A will continue to be met.

Therefore, the proposed amendments do not result in a significant reduction in the margin of safety.

The NRC staff has reviewed the licensee's analysis and, based on this review, it appears that the three standards of 10 CFR 50.92(c) are satisfied. Therefore, the NRC staff proposes to determine that the amendment request involves no significant hazards consideration.

Attorney for licensee: Kathryn B. Nolan, Deputy General Counsel, 550 South Tryon Street, M/C DEC45A, Charlotte, NC 28202.

NRC Branch Chief: Undine Shoop.

Northern States Power Company, Docket Nos. 50-282 and 50-306, Prairie Island Nuclear Generating Plant, Units 1 and 2 (PINGP), Goodhue County, Minnesota

Date of amendment request: October 2, 2018, as supplemented by letter dated December 4, 2018. Publicly-available versions are in ADAMS under Accession Nos. ML18275A370 and ML18338A431, respectively.

Description of amendment request: The amendments would revise the PINGP licensing basis regarding the safety classification of certain fuel handling equipment. The amendments would revise the PINGP Updated Safety Analysis Report (USAR) regarding specific fuel handling equipment to relax the PINGP-specific classification scheme to allow them to be classified as quality assurance (QA) Type III, non-safety related.

Basis for proposed no significant hazards consideration determination: As required by 10 CFR 50.91(a), the licensee has provided its analysis of the issue of no significant hazards consideration, which is presented below:

1. Does the proposed amendment involve a significant increase in the probability or consequences of an accident previously evaluated?

Response: No.

The fuel handling accident is the only previously evaluated accident for the fuel handling equipment being addressed. The proposed amendment does not result in a significant increase in the probability of an accident because the change in definition of substantial amount of radioactivity as applied to determining the safety classification of the specified fuel handling equipment will not alter the results of fuel handling accidents analyzed in Chapter 14 of the PINGP Updated Safety Analysis Report.

[Therefore, the proposed change does not involve a significant increase in the probability or consequences of an accident previously evaluated.]

2. Does the proposed amendment create the possibility of a new or different kind of accident from any previously evaluated?

Response: No.

The proposed reclassification of specified refueling handling equipment does not alter existing system interactions or introduce new system interactions. The change will not affect how the specified equipment is operated or maintained. Neither will the change affect the QA requirements for equipment that is required to maintain integrity for seismic category II/I requirements, so no new potential accidents need be postulated as a result of the proposed change.

Therefore, the proposed change does not create the possibility of a new or different kind of accident from any accident previously evaluated in the USAR.

3. Does the proposed amendment involve a significant reduction in a margin of safety?

Response: No.

The proposed amendment revises the current licensing basis to apply a criterion for designating equipment as safety-related that is consistent with the definition of “Comparable Off-site Exposures” in [American Nuclear Standards Institute/American Nuclear Society (ANSl/ANS)-58.14-1993] for the purposes of equipment quality assurance type. The proposed amendment is consistent with existing regulatory guidance. The proposed amendment does not reduce compliance with [Atomic Energy Commission (AEC) General Design Criteria (GDC) 1]. Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Peter M. Glass, Assistant General Counsel, Xcel Energy Services, Inc., 414 Nicollet Mall, Minneapolis, MN 55401.

NRC Branch Chief: David J. Wrona.

Southern Nuclear Operating Company, Inc., Docket Nos. 52-025 and 52-026, Vogtle Electric Generating Plant, Units 3 and 4, Burke County, Georgia

Date of amendment request: November 20, 2018. A publicly-available version is in ADAMS under Accession No. ML18324A823.

Description of amendment request: The requested amendment proposes to depart from information in the Updated Final Safety Analysis Report (UFSAR) (which includes the plant-specific Design Control Document Tier 2 information) and involves related changes to plant-specific Tier 1 information, with corresponding changes to the associated Combined License (COL) Appendix C information. Specifically, the requested amendment proposes changes that are editorial in nature to promote consistency with the licensing basis.

Basis for proposed no significant hazards consideration determination: As required by 10 CFR 50.91(a), the licensee has provided its analysis of the issue of no significant hazards consideration, which is presented below:

1. Does the proposed amendment involve a significant increase in the probability or consequences of an accident previously evaluated?

Response: No.

The proposed consistency and editorial changes to Tier 2 information in the UFSAR, COL Appendix C (and associated plant-specific Tier 1) information, and COL Appendix A Technical Specifications do not involve a technical change (e.g., there is no design parameter or requirement, calculation, analysis, function or qualification change). No structure, system, or component (SSC) design or function would be affected. No design or safety analysis would be affected. The proposed changes do not affect any accident initiating event or component failure, thus the probabilities of the accidents previously evaluated are not affected. No function used to mitigate a radioactive material release and no radioactive material release source term is involved, thus the radioactive releases in the accident analyses are not affected.

Therefore, the proposed amendment does not involve a significant increase in the probability or consequences of an accident previously evaluated.

2. Does the proposed amendment create the possibility of a new or different kind of accident from any accident previously evaluated?

Response: No.

The proposed consistency and editorial changes to Tier 2 information in the UFSAR, COL Appendix C (and associated plant-specific Tier 1) information, and COL Appendix A Technical Specifications do not change the design of safety-related SSCs. The proposed changes do not affect plant electrical systems, and does not affect the design function, support, design, or operation of mechanical and fluid systems. The proposed changes do not result in a new failure mechanism or introduce any new accident precursors. No design function described in the UFSAR is affected by the proposed changes.

Therefore, the proposed amendment does not create the possibility of a new or different kind of accident from any accident previously evaluated.

3. Does the proposed amendment involve a significant reduction in a margin of safety?

Response: No.

The proposed consistency and editorial changes to Tier 2 information in the UFSAR, COL Appendix C (and associated plant-specific Tier 1) information, and COL Appendix A Technical Specifications do not involve any change to the design as described in the COL. There would be no change to an existing design basis, design function, regulatory criterion, or analyses. No safety analysis or design basis acceptance limit/criterion is involved.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. M. Stanford Blanton, Balch & Bingham LLP, 1710 Sixth Avenue North Birmingham, AL 35203-2015.

NRC Branch Chief: Jennifer L. Dixon-Herrity.

IV. Previously Published Notices of Consideration of Issuance of Amendments to Facility Operating Licenses and Combined Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Exelon Generation Company, LLC, Docket No. 50-461, Clinton Power Station (CPS), Unit No.1, DeWitt County, Illinois

Date of amendment request: September 17, 2018. A publicly-available version is in ADAMS under Accession No. ML18260A307.

Description of amendment request: The amendment would recapture low-power testing time to extend the full-power operating license (FPOL) to expire on April 17, 2027, instead of the current expiration date of September 29, 2026.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment does not involve a significant increase in the probability or consequences of an accident previously evaluated because it does not involve a change to the design configuration or operation of the facility. The proposed change does not affect the source term, containment isolation or radiological release assumptions used in evaluating the radiological consequences of an accident previously analyzed in the CPS Updated Safety Analysis Report (USAR).

CPS was designed and constructed to ensure at least a 40-year service life. Design features provide for inspection of structures, systems, and components during this service life. Surveillance, inspection, and maintenance practices, which have been implemented in accordance with the American Society of Mechanical Engineers (ASME) Boiler and Pressure Vessel Code and the CPS Technical Specifications, provide assurance that any degradation in plant safety-related equipment will be identified and corrected to ensure continued safe operation of the unit throughout the duration of the facility operating license.

The low-power testing recapture period requested by this amendment is for 6.5 months. This time period is insignificant from an aging effects perspective, particularly when considered in conjunction with the surveillance, inspection, and maintenance programs described above.

Therefore, the proposed change does not involve a significant increase in the probability or consequences of an accident previously evaluated.

2. Does the proposed amendment create the possibility of a new or different kind of accident from any previously evaluated?

Response: No.

The proposed amendment would revise the expiration date of the facility operating license to base it upon the issuance date of the FPOL and not the issuance date of the low-power testing license. The proposed change does not involve physical alteration of plant systems, structures, or components, or changes in parameters governing the manner in which the plant is operated and maintained.

Therefore, the proposed amendment does not create the possibility of a new or different kind of accident from any accident previously evaluated.

3. Does the proposed amendment involve a significant reduction in a margin of safety?

Response: No.

The proposed amendment would revise the expiration date of the facility operating license to base it upon the issuance date of the FPOL and not the issuance date of the low-power testing license. No physical changes are being made to the design features or operation of the facility.

Margin of safety is associated with confidence in the ability of the fission produce barriers (i.e., fuel cladding, reactor coolant system pressure boundary, and containment structure) to limit the radiological dose to the public and control room operators in the event of an accident. The proposed amendment to the facility operating license has no impact on the margin of safety and robustness provided in the design and construction of the facility. In addition, the proposed amendment will not relax any of the criteria used to establish safety limits, nor will the proposed amendment relax safety system settings or limiting conditions for operation as defined in the Technical Specifications.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, 4300 Winfield Road, Warrenville, IL 60555.

NRC Branch Chief: David J. Wrona.

V. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Carolinas, LLC, Docket Nos. 50-269, 50-270, and 50-287, Oconee Nuclear Station, Units 1, 2, and 3, Oconee County, South Carolina

Date of amendment request: October 20, 2017, as supplemented by letters dated June 15, July 20, and September 21, 2018.

Brief description of amendments: The amendments revise the Updated Final Safety Analysis Report (UFSAR) to provide off-nominal success criteria for maintaining the reactor in a safe shutdown condition when using the Standby Shutdown Facility (SSF) to mitigate a Turbine Building Flood occurring when an Oconee Unit is not at nominal full power conditions. The amendments also revise the UFSAR to allow the use of the Main Steam Atmospheric Dump Valves, when available, to enhance SSF mitigation capabilities.

Date of issuance: December 17, 2018.

Effective date: As of the date of issuance and shall be implemented within 90 days of issuance.

Amendment Nos.: 410, 412, and 411. A publicly-available version is in ADAMS under Accession No. ML18311A134; documents related to these amendments are listed in the Safety Evaluation enclosed with the amendments.

Facility Operating License Nos. DPR-38, DPR-47 and DPR-55: Amendments revised the UFSAR.

Date of initial notice in Federal Register: July 3, 2018 (83 FR 31193), as corrected by a notice published on July 10, 2018 (83 FR 31979), that changed the period for filing petitions to account for a Federal holiday. The supplemental letters dated June 15, July 20, and September 21, 2018, provided additional information that clarified the application, did not expand the scope of the application as originally noticed, and did not change the staff's original proposed no significant hazards consideration determination as published in the Federal Register.

The Commission's related evaluation of the amendment is contained in a Safety Evaluation dated December 17, 2018.

No significant hazards consideration comments received: No.

Entergy Louisiana, LLC, and Entergy Operations, Inc., Docket No. 50-458, River Bend Station, Unit 1 (RBS), West Feliciana Parish, Louisiana

Date of amendment request: January 29, 2018, as supplemented by letters dated June 21, August 15, and November 13, 2018.

Brief description of amendment: The amendment revised the RBS Updated Safety Analysis Report to reflect the relocation of the reactor core isolation cooling injection point from the reactor vessel head spray nozzle to the `A' Feedwater line via the `A' Residual Heat Removal shutdown cooling return line.

Date of issuance: December 21, 2018.

Effective date: As of the date of issuance and shall be implemented within 30 days from the date of issuance.

Amendment No.: 194. A publicly-available version is in ADAMS under Accession No. ML18345A342; documents related to this amendment are listed in the Safety Evaluation enclosed with the amendment.

Facility Operating License No. NPF-47: The amendment revised the Updated Safety Analysis Report.

Date of initial notice in Federal Register: May 22, 2018 (83 FR 23732). The supplemental letters dated June 21, August 15, and November 13, 2018, provided additional information that clarified the application, did not expand the scope of the application as originally noticed, and did not change the NRC staff's original proposed no significant hazards consideration determination as published in the Federal Register.

The Commission's related evaluation of the amendment is contained in a Safety Evaluation dated December 21, 2018.

No significant hazards consideration comments received: No.

Entergy Nuclear Operations, Inc., Docket No. 50-286, Indian Point Nuclear Generating Unit No. 3 (Indian Point 3), Westchester County, New York

Date of amendment request: December 8, 2017, as supplemented by letter dated July 3, 2018.

Brief description of amendment: The amendment revised Technical Specification 5.5.15, “Containment Leakage Rate Testing Program,” to extend the frequency of the primary containment integrated leak rate test, or Type A test, at Indian Point 3. Specifically, the amendment allows for a one-time extension of the integrated leak rate test frequency from 15 years to no later than the plant restart after the Indian Point 3 Spring 2021 (3R21) Refueling Outage (i.e., approximately 16 years).

Date of issuance: December 20, 2018.

Effective date: As of the date of issuance, and shall be implemented within 30 days.

Amendment No.: 265. A publicly-available version is in ADAMS under Accession No. ML18337A422; documents related to this amendment are listed in the Safety Evaluation enclosed with the amendment.

Amended Facility Operating License No. DPR-64: The amendment revised the Amended Facility Operating License and Technical Specifications.

Date of initial notice in Federal Register: March 13, 2018 (83 FR 10916). The supplemental letter dated July 3, 2018, provided additional information that clarified the application, did not expand the scope of the application as originally noticed, and did not change the NRC staff's original proposed no significant hazards consideration determination as published in the Federal Register.

The Commission's related evaluation of the amendment is contained in a Safety Evaluation dated December 20, 2018.

No significant hazards consideration comments received: No.

Entergy Operations, Inc., Docket No. 50-368, Arkansas Nuclear One, Unit 2 (ANO-2), Pope County, Arkansas

Date of amendment request: December 14, 2017.

Brief description of amendment: The amendment revised the technical specification (TS) requirements in ANO-2 TS 3.3.3.6, “Post-Accident Instrumentation,” to ensure both Category 1 and Type A Regulatory Guide 1.97, Revision 3, “Instrumentation for Light-Water-Cooled Nuclear Power Plants to Assess Plant and Environs Conditions During and Following an Accident,” instrumentation is included in the specification (unless already addressed within another specification) and gains greater consistency with NUREG-1432, Revision 4, “Standard Technical Specifications, Combustion Engineering Plants.”

Date of issuance: December 19, 2018.

Effective date: As of the date of issuance and shall be implemented within 90 days from the date of issuance.

Amendment No.: 313. A publicly-available version is in ADAMS under Accession No. ML18317A382; documents related to this amendment are listed in the Safety Evaluation enclosed with the amendment.

Renewed Facility Operating License No. NPF-6: The amendment revised the Renewed Facility Operating License and TS.

Date of initial notice in Federal Register: February 27, 2018 (83 FR 8515).

The Commission's related evaluation of the amendment is contained in a Safety Evaluation dated December 19, 2018.

No significant hazards consideration comments received: No.

Exelon Generation Company, LLC, Docket Nos. 50-373 and 50-374, LaSalle County Station (LSCS), Units 1 and 2, LaSalle County, Illinois

Date of amendment request: February 27, 2018.

Brief description of amendment: The amendments revised the LSCS Technical Specification 3.4.4, “Safety/Relief Valves (S/RVs).” Specifically, the amendments change the as-found tolerances with respect to the lift setpoint lower tolerance limit for the S/RVs as delineated in Surveillance Requirement 3.4.4.1 from −3 percent to −5 percent. The as-found tolerances are used for determining operability and to increase sample sizes for S/RV testing should the tolerance be exceeded.

Date of issuance: December 19, 2018.

Effective date: As of the date of issuance and shall be implemented within 45 days of issuance.

Amendment No.: Unit 1—232; Unit 2—218. A publicly-available version is in ADAMS under Accession No. ML18278A030; documents related to these amendments are listed in the Safety Evaluation enclosed with the amendments.

Renewed Facility Operating License Nos. NPF-11 and NPF-18: The amendments revised the Renewed Facility Operating Licenses and Technical Specifications.

Date of initial notice in Federal Register: April 10, 2018 (83 FR 15416).

The Commission's related evaluation of the amendments is contained in a Safety Evaluation dated December 19, 2018.

No significant hazards consideration comments received: No.

Exelon Generation Company, LLC, Docket No. 50-289, Three Mile Island Nuclear Station, Unit 1, Dauphin County, Pennsylvania

Date of amendment request: November 10, 2017, as supplemented by letters dated October 10, 2018, and October 29, 2018.

Brief description of amendment: The amendment revised Section 6.0, “Administrative Controls,” of the Three Mile Island Nuclear Station, Unit 1, Technical Specifications, which makes changes to the organization, staffing, and training requirements. The amendment also revised Section 1.0, “Definitions,” of the Technical Specifications to add two new positions for Certified Fuel Handler and Non-Certified Operator.

Date of issuance: December 14, 2018.

Effective date: The amendment will be effective upon the licensee's submittal of the certifications required by 10 CFR 50.82(a)(1)(i) and (ii), and shall be implemented within 60 days of the effective date of the amendment, but may not exceed December 31, 2019.

Amendment No.: 295. A publicly-available version is in ADAMS under Accession No. ML18305B419; documents related to this amendment is listed in the Safety Evaluation enclosed with the amendment.

Renewed Facility Operating License No. DPR-50: The amendment revised the Renewed Facility Operating License and Technical Specifications.

Date of initial notice in Federal Register: February 13, 2018 (83 FR 6225). The supplemental letters dated October 10, 2018, and October 29, 2018, provided additional information that clarified the application, did not expand the scope of the application as originally noticed, and did not change the NRC staff's original proposed no significant hazards consideration determination as published in the Federal Register.

The Commission's related evaluation of the amendment is contained in a Safety Evaluation dated December 14, 2018.

No significant hazards consideration comments received: No.

PSEG Nuclear LLC and Exelon Generation Company, LLC, Docket Nos. 50-272 and 50-311, Salem Nuclear Generating Station, Unit Nos. 1 and 2, Salem County, New Jersey

Date of amendment request: December 18, 2017.

Brief description of amendments: The amendments revised Technical Specification 3/4.3.1, “Reactor Trip System Instrumentation,” and Technical Specification 3/4.3.2, “Engineered Safety Feature Actuation System Instrumentation,” to increase the completion times and bypass test times at Salem Nuclear Generating Station, Unit Nos. 1 and 2. These changes are consistent with the NRC-approved Technical Specifications Task Force (TSTF) Travelers TSTF-411, Revision 1, “Surveillance Test Interval Extension for Components of the Reactor Protection System (WCAP-15376-P),” and TSTF-418, Revision 2, “RPS [Reactor Protection System] and ESFAS [Engineered Safety Feature Actuation System] Test Times and Completion Times (WCAP-14333),” or are supported by plant-specific analysis.

Date of issuance: December 19, 2018.

Effective date: As of the date of issuance and shall be implemented within 90 days from the date of issuance.

Amendment Nos.: 325 (Unit No. 1) and 306 (Unit No. 2). A publicly-available version is in ADAMS under Accession No. ML18318A266; documents related to these amendments are listed in the Safety Evaluation enclosed with the amendments.

Renewed Facility Operating License Nos. DPR-70 and DPR-75: The amendments revised the Renewed Facility Operating Licenses and Technical Specifications.

Date of initial notice in Federal Register: March 13, 2018 (83 FR 10921). The supplemental letters dated February 9, 2018 and July 17, 2018, provided additional information that clarified the application, did not expand the scope of the application as originally noticed, and did not change the NRC staff's original proposed no significant hazards consideration determination as published in the Federal Register.

The Commission's related evaluation of the amendments is contained in a Safety Evaluation dated December 19, 2018.

No significant hazards consideration comments received: No.

Tennessee Valley Authority, Docket No. 50-391, Watts Bar Nuclear Plant, Unit 2, Rhea County, Tennessee

Date of amendment request: October 31, 2018.

Brief description of amendment: The amendment revised the completion date for License Condition 2.C.(5) for the Watts Bar Nuclear Plant, Unit 2, regarding the completion of action to resolve the issues identified in NRC Bulletin 2012-01, “Design Vulnerability in Electric Power System” (ADAMS Accession No. ML12074A115), from December 31, 2018, to December 31, 2019, to align with the remainder of the Tennessee Valley Authority fleet and with the nuclear industry.

Date of issuance: December 21, 2018.

Effective date: As of the date of issuance and shall be implemented immediately.

Amendment No.: 23. A publicly-available version is in ADAMS under Accession No. ML18334A333; documents related to this amendment are listed in the Safety Evaluation enclosed with the amendment.

Facility Operating License No. NPF-96: The amendment revised the Facility Operating License.

Date of initial notice in Federal Register: November 14, 2018 (83 FR 56876).

The Commission's related evaluation of the amendment and final determination of no significant hazards consideration is contained in a Safety Evaluation dated December 21, 2018.

No significant hazards consideration comments received: One comment was received on December 14, 2018. The public comment and the NRC staff response are provided in the Safety Evaluation.

Dated at Rockville, Maryland, this 25th day of January 2019.
For the Nuclear Regulatory Commission.
Gregory F. Suber,
Director, Division of Operating Reactor Licensing, Office of Nuclear Reactor Regulation.

[FR Doc. 2019-00358 Filed 1-30-19; 8:45 am]

BILLING CODE 7590-01-P